DEPARTMENT OF ENERGY

Federal Energy Regulatory Commission

Combined Notice of Filings #1

Take notice that the Commission received the following electric corporate filings:

Docket Numbers: EC24-52-000.

Applicants: Midway-Sunset Cogeneration Company.

Description: Application for Authorization Under Section 203 of the Federal Power Act of Midway-Sunset Cogeneration Company.

Filed Date: 2/27/24.

Accession Number: 20240227-5228.

Comment Date: 5 p.m. ET 4/12/24.

Take notice that the Commission received the following electric rate filings:

Docket Numbers: ER23-2688-001.

Applicants: NRG Business Marketing LLC.

Description: Compliance filing: Rev. Tariff, Req. for Consolidation Shortened Notice Period Expedited Treatment to be effective 8/1/2023.

Filed Date: 3/4/24.

Accession Number: 20240304-5189.

Comment Date: 5 p.m. ET 3/11/24.

Docket Numbers: ER24-816-001.

Applicants: Puget Sound Energy, Inc.

Description: Tariff Amendment: Amendment of January 4, 2024 Boeing filing to be effective 1/1/2024.

Filed Date: 3/5/24.

Accession Number: 20240305-5152.

Comment Date: 5 p.m. ET 3/26/24.

Docket Numbers: ER24-966-000.

Applicants: Eleven Mile Solar Center, LLC.

Description: Supplement to January 22, 2024 Eleven Mile Solar Center, LLC tariff filing.

Filed Date: 2/29/24.

Accession Number: 20240229-5347.

Comment Date: 5 p.m. ET 3/14/24.

Docket Numbers: ER24-1333-000; TS24-2-000.

Applicants: Western Interconnect LLC, Western Interconnect LLC.

Description: Western Interconnect LLC submits Request for Waiver of Standards of Conduct Requirements.

Filed Date: 2/26/24.

Accession Number: 20240226-5281.

Comment Date: 5 p.m. ET 3/18/24.

Docket Numbers: ER24-1402-000.

Applicants: Crooked Lake Solar, LLC.

Description: Petition for Limited Waiver of Crooked Lake Solar, LLC.

Filed Date: 3/1/24.

Accession Number: 20240301-5410.

Comment Date: 5 p.m. ET 3/22/24.

Docket Numbers: ER24-1405-000.

Applicants: Southwest Power Pool, Inc.

Description: § 205(d) Rate Filing: 4058R1 Missouri Electric Commission NITSA NOA to be effective 2/1/2024.

Filed Date: 3/4/24.

Accession Number: 20240304-5173.

Comment Date: 5 p.m. ET 3/25/24.

Docket Numbers: ER24-1406-000.

Applicants: PJM Interconnection, L.L.C.

Description: Tariff Amendment: Cancellation of WMPA, SA No. 6665; AG1-507 to be effective 5/6/2024.

Filed Date: 3/4/24.

Accession Number: 20240304-5185.

Comment Date: 5 p.m. ET 3/25/24.

Docket Numbers: ER24-1407-000.

Applicants: Canal Energy Marketing LLC.

Description: Canal Energy Marketing LLC Request for a limited one-time waiver of the ISO New England, Inc. Inventoried Energy Program contained in Appendix K of ISO-NE's Transmission, Markets & Services Tariff.

Filed Date: 3/4/24.

Accession Number: 20240304-5219.

Comment Date: 5 p.m. ET 3/25/24.

Docket Numbers: ER24-1408-000.

Applicants: Cleco Power LLC.

Description: § 205(d) Rate Filing: Revised Rate Schedule 11 and Request for Waiver to be effective 5/1/2024.

Filed Date: 3/5/24.

Accession Number: 20240305-5050.

Comment Date: 5 p.m. ET 3/26/24.

Docket Numbers: ER24-1410-000.

Applicants: Southern California Edison Company.

Description: § 205(d) Rate Filing: LA, PG&E Midway, BAC011, SA No. 533 to be effective 3/6/2024.

Filed Date: 3/5/24.

Accession Number: 20240305-5085.

Comment Date: 5 p.m. ET 3/26/24.

Docket Numbers: ER24-1411-000.

Applicants: Alabama Power Company, Georgia Power Company, Mississippi Power Company.

Description: Compliance filing: Alabama Power Company submits tariff filing per 35: Order No. 2023 Compliance Filing to be effective 12/31/9998.

Filed Date: 3/5/24.

Accession Number: 20240305-5111.

Comment Date: 5 p.m. ET 3/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 5, 2024.
Debbie-Anne A. Reese,
Acting Secretary.

[FR Doc. 2024-05120 Filed 3-8-24; 8:45 am]

BILLING CODE 6717-01-P